DEPARTMENT OF JUSTICE

Notice of Lodging of Proposed Consent Decree Under the Comprehensive Environmental Response, Compensation, and Liability Act

On April 8, 2013, the Department of Justice lodged a proposed consent decree with the United States Bankruptcy Court for the Southern District of New York in the case entitled In re Motors Liquidation Corp., et al., Civil Action No. 90-50026 (REG).

The parties to the consent decree are the General Unsecured Creditors (“GUC”) Trust (established under a March 30, 2011 Plan of Liquidation, and authorized to settle the remaining claims against the dissolved debtors, Motors Liquidation Corporation, formerly known as General Motors Corporation, Remediation and Liability Management Company, Inc., and Environmental Corporate Remediation Company, Inc. (collectively, “Old GM”)); the United States of America; and the State of New York. The consent decree resolves claims for natural resource damages and assessment costs (“NRD”) of the United States Department of Interior (“DOI”) and the State of New York's Department of Environmental Conservation (“DEC”), under section 107 of the Comprehensive Environmental Response, Compensation, and Liability Act (“CERCLA”), 42 U.S.C. 9601-9675, with respect to the Onondaga Lake NPL Site, located in Onondaga County, New York.

Under the consent decree, the United States on behalf of DOI and New York on behalf of DEC (collectively, “the Joint Onondaga Trustees”) shall have a total Allowed General Unsecured Claim in the total amount of $5,500,000.00, classified in Class 3 under the Plan of Liquidation (the “Onondaga NRD Allowed Claim”), which shall be divided by the Joint Onondaga Trustees as follows: (i) $85,000 for DOI's claims for past NRD assessment costs, (ii) $10,000 for DEC's claims for past NRD assessment costs, and (iii) $5,405,000 for restoration funds at the Onondaga Lake NPL Site sought by the Joint Onondaga Trustees.

The publication of this notice opens a period for public comment on the consent decree. Comments should be addressed to the Assistant Attorney General, Environment and Natural Resources Division, and should refer to In re Motors Liquidation Corp., et al., D.J. Ref. No. 90-11-3-09754. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $5.75 (25 cents per page reproduction cost) payable to the United States Treasury.

Maureen Katz,
Assistant Section Chief, Environmental Enforcement Section, Environment and Natural Resources Division.

[FR Doc. 2013-08719 Filed 4-12-13; 8:45 am]

BILLING CODE 4410-15-P